DEPARTMENT OF THE INTERIOR

Bureau of Reclamation

[RR04084000, XXXR4081X1, RN.20350010.REG0000]

Colorado River Basin Salinity Control Advisory Council Notice of Public Meeting

AGENCY: Bureau of Reclamation, Interior.

ACTION: Notice of public meeting.

SUMMARY: The Bureau of Reclamation is publishing this notice to announce that a Federal Advisory Committee meeting of the Colorado River Basin Salinity Control Council (Council) will take place.

DATES: The Council will convene on Wednesday, June 3, 2020, at 1 p.m. and adjourn at approximately 3 p.m.

ADDRESSES: Due to restrictions put in place to address the COVID 19 pandemic the meeting will be a virtual meeting. For information about accessing the meeting you must contact Mr. Kib Jacobson; see FOR FURTHUR INFORMATION CONTACT.

FOR FURTHER INFORMATION CONTACT: Kib Jacobson, telephone (801) 524-3753; email at kjacobson@usbr.gov; facsimile (801) 524-3847.

SUPPLEMENTARY INFORMATION: The meeting of the Council is being held under the provisions of the Federal Advisory Committee Act of 1972. The Council was established by the Colorado River Basin Salinity Control Act of 1974 (Pub. L. 93-320) (Act) to receive reports and advise Federal agencies on implementing the Act.

Purpose of the Meeting: The purpose of the meeting is to discuss and take appropriate actions regarding the following: (1) The Basin States Program created by Public Law 110-246, which amended the Act; (2) responses to the Advisory Council Report; and (3) other items within the jurisdiction of the Council.

Agenda: Council members will be updated and briefed on the status of (1) the Bureau of Reclamation's Basinwide and Basin States salinity control programs, (2) the Bureau of Land Management's and Natural Resources Conservation Service's salinity control programs, and (3) other salinity control activities occurring in the Colorado River Basin.

Meeting Accessibility: The meeting is open to the public. Individuals wanting access to the virtual meeting should contact Mr. Kib Jacobson (see FOR FURTHER INFORMATION CONTACT) no later than June 2, 2020, to receive instructions.

Public Disclosure of Comments: To the extent that time permits, the Council chairman will allow public presentation of oral comments at the meeting. Any member of the public may file written statements with the Council before, during, or up to 30 days after the meeting either in person or by mail. To allow full consideration of information by Council members at the meeting, written notice must be provided to Mr. Kib Jacobson (see FOR FURTHER INFORMATION CONTACT) by May 29, 2020. Written comments received prior to the meeting will be provided to Council members at the meeting.

Before including your address, phone number, email address, or other personal identifying information in your comment, you should be aware that your entire comment—including your personal identifying information—may be made publicly available at any time. While you can ask us in your comment to withhold your personal identifying information from public review, we cannot guarantee that we will be able to do so.

Brent Esplin,
Regional Director, Upper Colorado Basin—Interior Region 7, Bureau of Reclamation.

[FR Doc. 2020-10807 Filed 5-15-20; 8:45 am]

BILLING CODE 4332-90-P